DEPARTMENT OF DEFENSE

Office of the Secretary

National Security Education Board Members Meeting; Cancellation of Meeting

AGENCY: Under Secretary of Defense Personnel and Readiness, DoD.

ACTION: Notice of meeting; cancellation.

SUMMARY: On May 11, 2012 (77 FR 27739), Department of Defense announced a meeting of the National Security Education Board. This meeting was to be held on June 20, 2012, from 8:30 a.m. to 2 p.m. at Defense Language and National Security Education Office, 1101 Wilson Boulevard, Suite 1210, Arlington, VA 22209.

Pursuant to Public Law 92-463, notice is hereby given of the cancellation of the June 20, 2012 National Security Education Board meeting. The purpose of the meeting was to review and make recommendations to the Secretary of Defense concerning requirements established by the David L. Boren National Security Education Act, Title VII of Public Law 102-183, as amended. The meeting will be postponed until fall 2012.

FOR FURTHER INFORMATION CONTACT: Ms. Alison Patz, Program Analyst, Defense Language and National Security Education Office (DLNSEO), 1101 Wilson Boulevard, Suite 1210, Arlington, Virginia 22209-2248; (703) 696-1991. Electronic mail address: Alison.patz@wso.whs.mil.

Dated: June 5, 2012.
Aaron Siegel,
Alternate OSD Federal Register Liaison Officer, Department of Defense.

[FR Doc. 2012-13942 Filed 6-7-12; 8:45 am]

BILLING CODE 5001-06-P